DEPARTMENT OF THE INTERIOR

Fish and Wildlife Service

[FWS-R9-IA-2009-N235]

[96300-1671-0000-P5]

Receipt of Applications for Permit

AGENCY: Fish and Wildlife Service, Interior.

ACTION: Notice of receipt of applications for permit.

SUMMARY: We, the U.S. Fish and Wildlife Service, invite the public to comment on the following applications for permits to conduct certain activities with endangered species. The Endangered Species Act requires that we invite public comment on these permit applications.

DATES: Written data, comments or requests must be received by November 30, 2009.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 212, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to Section 10(c) of the Endangered Species Act of 1973, as amended (16 U.S.C. 1531 et seq.). Submit your written data, comments, or requests for copies of the complete applications to the address shown in ADDRESSES.

Applicant: Jacksonville Zoological Society, Jacksonville, FL, PRT-072219

The applicant requests reissuance of their permit to import three giant otters (Pteronura brasiliensis) from the Government of Guyana for the purpose of enhancement of the survival of the species. This notification covers activities to be conducted by the applicant over a 5-year period.

Applicant: Duquesne University, Pittsburgh, PA, PRT-218242

The applicant requests an amendment to their permit to acquire from Coriell Institute of Medical Research, Camden, NJ, in interstate commerce cell line and DNA cultures from chimpanzee (Pan troglodytes), bonobo (Pan paniscus), gorilla (Gorilla gorilla), Bornean orangutan (Pongo pygmaeus), Sumatran orangutan (Pongo abelii), agile gibbon (Hylobates agilis), buff-cheeked gibbon (Nomascus gabriellae), white-cheeked gibbon (Nomascus leucogenys), pileated gibbon (Hylobates pileatus), siamang (Symphalangus syndactylus), black-handed spider monkey (Ateles geoffroyi), cotton-top tamarin (Saguinus oedipus), aye-aye (Daubentonia madagascariensis), brown lemur (Eulemur fulvus), ring-tailed lemur (Lemur catta), white sifaka (Propithecus verreauxi), and fat-tailed dwarf lemur (Cheirogaleus medius) for the purpose of scientific research. This notification covers activities conducted by the applicant over a 5-year period.

Applicant: Wild Cat Education & Conservation Fund, Occidental, CA, PRT-227438

The applicant requests a permit to import one male captive-born cheetah (Acinonyx jubatus) from DeWildt Cheetah and Wildlife Centre, DeWildt, South Africa, for the purpose of enhancement of the survival of the species.

Applicant: Institute of Greatly Endangered and Rare Species, Myrtle Beach, SC, PRT-230259

The applicant requests a permit to import one male and one female captive-born cheetah (Acinonyx jubatus) from DeWildt Cheetah and Wildlife Centre, DeWildt, South Africa, for the purpose of enhancement of the survival of the species.

Applicant: Michael S. Clifford, New York, NY, PRT-230659

The applicant requests a permit to import the sport-hunted trophy of one male bontebok (Damaliscus pygargus pygargus) culled from a captive herd maintained under the management program of the Republic of South Africa, for the purpose of enhancement of the survival of the species.

Dated: October 23, 2009
Lisa J. Lierheimer
Senior Permit Biologist, Branch of Permits, Division of Management Authority

[FR Doc. E9-26147 Filed 10-29- 09; 8:45 am]

BILLING CODE 4310-55-S